ENVIRONMENTAL PROTECTION AGENCY

[FRL-6995-8]

Agency Information Collection Activities: Submission for OMB Review; Comment Request; NESHAP for Epoxy Resins and Non-Nylon Polyamide Resin, Subpart W

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: National Emission Standards for Hazardous Air Pollutants (NESHAP) for Epoxy Resins and Non-nylon Polyamide Production—Subpart W, OMB Control Number 2060-0290, expiration date 09/30/01. The ICR describes the nature of the information collection and its expected burden and cost; where appropriate, it includes the actual data collection instrument.

DATES: Comments must be submitted on or before July 13, 2001.

ADDRESSES: Send comments referencing EPA ICR No. 1681.04 and OMB Control No. 2060-0290, to the following addressees: Sandy Farmer, U.S. Environmental Protection Agency, Collection Strategies Division (Mail code 2822), 1200 Pennsylvania Avenue, NW., Washington, DC 20460-0001 and to the Office of Information and Regulatory Affairs, Office of Management and Budget (OMB), Attention: Desk Officer for EPA 725 17th Street, NW., Washington, DC 20503.

FOR FURTHER INFORMATION CONTACT: For a copy of the ICR, call Sandy Farmer at EPA by phone at (202) 260-2740, by E-Mail at Farmer.Sandy@epamail.epa.gov or download off the Internet at http://www.epa..gov/icr, and refer to EPA ICR No.1681.04. For technical questions about the ICR contact Sally Sasnett, (202) 564-7074 or by E-mail at sasnett.sally@epa.gov.

SUPPLEMENTARY INFORMATION: Title: NESHAP for Epoxy Resin and Non-nylon Polyamide Resin Production, Subpart W, OMB Control No. 2060-0290; EPA ICR No. 1681.04, expiring September 30, 2001. This is a request for extension of a currently approved collection.

Abstract: The ICR contains recordkeeping and reporting requirements that are mandatory for compliance with 40 CFR part 63, subpart W, regulating hazardous air pollutants from process vents, storage vessels, wastewater systems and equipment leaks. The standards require mandatory record keeping and reporting to document process information related to the source's ability to comply with the standards. This information is used by the Agency to identify sources subject to the standards and to insure that the maximum achievable control technology is being properly applied. Section 112 of the Clean Air Act, as amended in 1990, requires that EPA establish standards to limit emissions of hazardous air pollutants (HAPs) from stationary sources. The sources subject to these provisions emit the HAPs epichlorohydrin, and in lesser amounts, hydrochloric acid and methanol. In the Administrator's judgment, hazardous air pollutant emissions in this industry cause or contribute to air pollution that may be reasonably expected to endanger public health or welfare. Respondents are owners or operators of new and existing facilities that manufacture polymers and resins from epichlorohydrin. Source categories include basic liquid epoxy resin (BLR) producers and producers of epichlorohydrin-modified non-nylon polyamide resins, also known as wet strength resins (WSR).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 1, 2001, 66 FR 8593; no comments were received.

Burden Statement: The annual public reporting and recordkeeping burden for this collection of information is estimated to average 156 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of new and existing facilities that manufacture polymers and resins from epichlorohydrin.

Estimated Number of Respondents: 13.

Frequency of Response: semiannually (some quarterly).

Estimated Total Annual Hour Burden: 4525 hours.

Estimated Total Annualized Capital and Operating Maintenance Cost Burden: $9,000.

Send comments on the Agency's need for this information, the accuracy of the provided burden estimates, and any suggested methods for minimizing respondent burden, including through the use of automated collection techniques to the following addresses. Please refer to EPA ICR No. 1681.04 and OMB Control No. 2060-0290 in any correspondence.

Dated: June 1, 2001.
Oscar Morales,
Director, Collection Strategies Division.

[FR Doc. 01-14901 Filed 6-12-01; 8:45 am]

BILLING CODE 6560-50-U